FEDERAL FINANCIAL INSTITUTIONS EXAMINATION COUNCIL

[Docket No. AS10-7]

Modification of the Annual National Registry Fee

AGENCY: Appraisal Subcommittee (ASC) of the Federal Financial Institutions Examination Council.

ACTION: Notice of modification of the annual National Registry fee to $40.

SUMMARY: Under authority in the Dodd-Frank Wall Street Reform and Consumer Protection Act of 2010 (the Dodd-Frank Reform Act), the ASC modified the annual National Registry fee (Registry fee) to $40 from the current $25 amount at its meeting on October 13, 2010. The ASC raised the Registry fee to support its supervisory activities, including additional authority and responsibility under the Dodd-Frank Reform Act. The modified Registry fee of $40 is effective on January 1, 2012. As of January 1, 2012, for all new appraiser credentials and all renewals of existing credentials, States are required to collect and transmit to the ASC the modified Registry fee of $40.

The National Registry is a database of all State licensed and certified appraisers who are eligible to perform appraisals for federally related transactions. Through the National Registry, lenders and consumers can readily determine whether an appraiser holds the appropriate credential and remains in good standing with the State. Each State maintains procedures for certifying, licensing, supervising and disciplining appraisers. The ASC is responsible for monitoring States' appraiser regulatory programs.

DATES: Effective Date: January 1, 2012.

FOR FURTHER INFORMATION CONTACT: James R. Park, Executive Director, at (202) 595-7575, or Alice M. Ritter, General Counsel, at (202) 595-7577, via Internet e-mail at jim@asc.gov and alice@asc.gov, respectively, or by U.S. Mail at Appraisal Subcommittee, 1401 H Street, NW., Suite 760, Washington, DC 20005.

SUPPLEMENTARY INFORMATION: Title XI of the Financial Institutions Reform, Recovery and Enforcement Act of 1989 (Title XI), as amended, requires the ASC to maintain a national registry of State licensed and certified appraisers and to ensure that each State agency transmits to the ASC, along with an annual Registry fee, a roster of State certified and licensed appraisers who are eligible to perform appraisals in federally related transactions.

Title XI, as amended by the Dodd-Frank Reform Act, allows the ASC to modify the Registry fee to an amount not more than $40. With approval of the Federal Financial Institutions Examination Council, the ASC has authority to modify the Registry fee above $40 to an amount not to exceed $80.

At its meeting on October 13, 2010, the ASC approved a modification of the annual Registry fee to $40 from the current $25 amount, which had remained unchanged since 1989. The ASC raised the Registry fee to support its supervisory activities, including additional authority and responsibility under the Dodd-Frank Reform Act.

As addressed in ASC Policy Statement 8, National Registry of State Certified and Licensed Appraisers, Title XI requires States to transmit to the ASC a roster listing individuals who have received a State certification or license to perform appraisals and a Registry fee from those individuals. The Registry fee and roster requirements apply to all individuals who receive State certifications or licenses originally or by reciprocity. Moreover, the Registry fee is due to the ASC from each State in which an appraiser is certified or licensed.

To provide a reasonable transition period for implementation by the States of the modified Registry fee, the fee increase is effective on January 1, 2012. Accordingly, on or after January 1, 2012, for all new appraiser credentials and all renewals of existing credentials, States are required to collect and transmit to the ASC the modified Registry fee of $40 in order for a credential to be reflected on the National Registry.

For States that issue multi-year certifications or licenses that do not require renewal in 2012, the modified Registry fee is due to the ASC on the date that the credential is renewed by the State. For example, if a State remitted $50 to the ASC in 2011 for a two-year certification, the ASC would accept the amount as payment in full of the annual Registry fee for calendar years 2011 and 2012. The State would not have to collect the $15 difference in the Registry fee amount for 2012. Upon renewal of the two-year credential in 2013, the State would be required to remit $80 to the ASC in order for the appraiser to remain on the National Registry in 2013 and 2014.

From the ASC's Web site (http://www.asc.gov), the public can access the National Registry for information on a credentialed appraiser. Certain personal information about an individual appraiser is protected by the Privacy Act, 5 U.S.C. 552a, and is not available to the public.

By the Appraisal Subcommittee.
Dated: October 20, 2010.
Deborah S. Merkle,
Chairman.

[FR Doc. 2010-27054 Filed 10-25-10; 8:45 am]

BILLING CODE 6700-01-P